DEPARTMENT OF THE TREASURY

Internal Revenue Service

26 CFR Part 1

[REG-132483-03]

RIN-1545-BC40

Remedial Actions for Tax-Exempt Bonds; Hearing Cancellation

AGENCY: Internal Revenue Service (IRS), Treasury.

ACTION: Cancellation of notice of public hearing on proposed rulemaking.

SUMMARY: This document cancels the public hearing on proposed regulations under section 103(a) of the Internal Revenue Code that amend the final regulations that provide certain permitted remedial actions for tax-exempt bonds issued by State and local governments.

DATES: The public hearing originally scheduled for November 4, 2003, at 10 a.m., is cancelled.

FOR FURTHER INFORMATION CONTACT: Sonya M. Cruse of the Publications and Regulations Branch, Legal Processing Division, Associate Chief Counsel (Procedure and Administration), (202) 622-4693 (not a toll-free number).

SUPPLEMENTARY INFORMATION: A notice of proposed rulemaking and notice of public hearing that appeared in the Federal Register on Monday, July 21, 2003 (68 FR 43059), announced that a public hearing was scheduled for November 4, 2003, at 10 a.m., in the auditorium, Internal Revenue Service Building, 1111 Constitution Avenue, NW., Washington, DC. The subject of the public hearing is proposed regulations under section 103(a) of the Internal Revenue Code.

The public comment period for these regulations expired on October 14, 2003. The outlines of oral testimony were due on October 14, 2003. The notice of proposed rulemaking and notice of public hearing, instructed those interested in testifying at the public hearing to submit an outline of the topics to be addressed. As of Tuesday, October 21, 2003, no one has submitted an outline of oral testimony. Therefore, the public hearing scheduled for November 4, 2003, is cancelled.

Cynthia E. Grigsby,
Acting Chief, Publications and Regulations Branch, Legal Processing Division, Associate Chief Counsel (Procedure and Administration).

[FR Doc. 03-26941 Filed 10-23-03; 8:45 am]

BILLING CODE 4830-01-P